DEPARTMENT OF HEALTH AND HUMAN SERVICES

National Institutes of Health

Center for Scientific Review; Amended Notice of Meeting

Notice is hereby given of a change in the meeting of the Center for Scientific Review Special Emphasis Panel, June 27, 2002, 8:30 a.m. to June 28, 2002, 5 p.m., Radisson Barcelo, 2121 P Street, NW, Washington, DC, 20037 which was published in the Federal Register on June 12, 2002, 67 FR 40326-40329.

The starting time of the meeting has been changed to 1 p.m. on June 27, 2002. The meeting dates and location remain the same. The meeting is closed to the public.

Dated: June 24, 2002.
Anna Snouffer,
Deputy Director, Office of Federal Advisory Committee Policy.

[FR Doc. 02-16438 Filed 6-28-02; 8:45 am]

BILLING CODE 4140-01-M